OFFICE OF SPECIAL COUNSEL

Information Collection Request; Request for Comment

AGENCY: U.S. Office of Special Counsel (OSC).

ACTION: Notice of request for comments.

SUMMARY: In accordance with the Paperwork Reduction Act of 1995 (44 U.S.C. chapter 35), the U.S. Office of Special Counsel (OSC) is seeking public comment on an extension of a currently approved information collection activity for its Alternative Dispute Resolution (ADR) Program, approved under OMB Control Number 3255-0008. OSC has revised its survey approach and now administers a single survey to mediation participants immediately following the conclusion of their ADR session. This updated format replaces the prior two-part survey process (initial and follow-up). The survey is used to assess program effectiveness, gather participant feedback, and identify areas for improvement. Participation is voluntary and responses are submitted anonymously.

DATES: Written comments must be received on or before August 25, 2025.

ADDRESSES: You may submit comments by any of the following methods:

• Mail: Barbara Wheeler Jones, U.S. Office of Special Counsel, 1730 M Street NW, Suite 218, Washington, DC 20036.

• Email: frliaison@osc.gov.

FOR FURTHER INFORMATION CONTACT: Nicole Courtney, Records and Information Manager, at (202) 804-7000 or via email at frliaison@osc.gov.

SUPPLEMENTARY INFORMATION: OSC's ADR Survey is administered electronically to individuals who participate in the agency's voluntary mediation program for prohibited personnel practice complaints. To improve efficiency and enhance response quality, OSC now issues a single consolidated survey immediately after the mediation concludes. The information collected will help OSC evaluate the overall success of its ADR process and improve service delivery. Participation remains voluntary and anonymous.

• Title of Collection: OSC Alternative Dispute Resolution (ADR) Program Survey.

• OMB Control Number: 3255-0008.

• Type of Review: An amendment of a currently approved information collection. OSC has submitted an extension request to OMB for this collection (Control No. 3255-0008), which is currently under review. This notice initiates a separate review process for a proposed revision to that collection, which will be submitted to OMB following the conclusion of the public comment period.

• Affected Public: Individuals who participate in OSC's ADR process (e.g., federal employees, agency representatives, legal counsel).

• Estimated Number of Respondents: 80 annually.

• Estimated Time per Response: 35 minutes.

• Total Estimated Annual Burden: Approximately 46.64.

Abstract: The ADR Program at OSC provides a confidential and informal process to resolve prohibited personnel practice complaints through mediation and facilitated discussions. To assess participant satisfaction, OSC administers a short, singular survey following each mediation session. This revised format replaces the former two-survey model. Responses are used to evaluate the effectiveness of the ADR process, identify trends, and inform program enhancements. The survey is voluntary and responses are kept anonymous.

Request for Comments: OSC invites written comments on:

1. Whether the proposed collection of information is necessary for the proper performance of the functions of the agency, including whether the information will have practical utility;

2. The accuracy of OSC's estimate of the burden of the proposed collection of information;

3. Ways to enhance the quality, utility, and clarity of the information to be collected; and

4. Ways to minimize the burden of the collection of information on respondents, including through the use of automated collection techniques or other forms of information technology.

All comments received will be included in the public record. Comments will be summarized and/or included in the request for Office of Management and Budget (OMB) approval.

Dated: April 4, 2025.
Barbara Wheeler Jones,
Chief, Case Review Division, U.S. Office of Special Counsel.

[FR Doc. 2025-11663 Filed 6-24-25; 8:45 am]

BILLING CODE 7405-01-P